DEPARTMENT OF LABOR

Mine Safety and Health Administration

[Docket No. MSHA-2018-0015]

Escapeways and Refuges in Underground Metal and Nonmetal Mines

AGENCY: Mine Safety and Health Administration, Labor.

ACTION: Notice of cancellation; Program Policy Letter.

SUMMARY: The Mine Safety and Health Administration (MSHA) cancels a Program Policy Letter (PPL) that was issued on July 29, 2019 to provide guidance on escapeways and refuges used by underground metal and nonmetal miners in emergency situations.

DATES: Cancellation as of May 27, 2020.

ADDRESSES:

Federal Register Publications: Access rulemaking documents electronically at http://www.msha.gov/regsinfo.htm or http://www.regulations.gov [Docket Number: MSHA-2018-0015].

Email Notification: To subscribe to receive email notification when MSHA publishes rulemaking documents in the Federal Register, go to https://www.msha.gov/subscriptions.

FOR FURTHER INFORMATION CONTACT: Roslyn B. Fontaine, Acting Director, Office of Standards, Regulations, and Variances, MSHA, at fontaine.roslyn@dol.gov (email), 202-693-9440 (voice), or 202-693-9441 (fax). These are not toll-free numbers.

SUPPLEMENTARY INFORMATION:

Cancellation of Program Policy Letter

On July 29, 2019, MSHA published in the Federal Register a PPL to clarify requirements in 30 CFR 57.11050, Escapeways and Refuges, together with a request for public comment (84 FR 36623). The PPL was intended to assist MNM mine operators with guidance on the placement of escapeways and refuges that underground miners need to use in emergency situations. On October 10, 2019, MSHA also held a public stakeholder meeting to ensure that the public would have additional opportunities to provide feedback. After reviewing all the comments received during both the public comment period and the stakeholder meeting, MSHA has now determined that the clarification in this PPL is not needed. Therefore, MSHA cancels the PPL.

(Authority: 30 U.S.C. 811)

David G. Zatezalo,
Assistant Secretary of Labor for Mine Safety and Health Administration.

[FR Doc. 2020-11300 Filed 5-26-20; 8:45 am]

BILLING CODE 4520-43-P